DEPARTMENT OF JUSTICE

Antitrust Division

Notice Pursuant to the National Cooperative Research and Production Act of 1993—Countering Weapons of Mass Destruction

Notice is hereby given that, on April 25, 2018, pursuant to Section 6(a) of the National Cooperative Research and Production Act of 1993, 15 U.S.C. 4301 et seq. (“the Act”), Countering Weapons of Mass Destruction (“CWMD”) has filed written notifications simultaneously with the Attorney General and the Federal Trade Commission disclosing changes in its membership. The notifications were filed for the purpose of extending the Act's provisions limiting the recovery of antitrust plaintiffs to actual damages under specified circumstances. Specifically, J. Mike Stevens Consulting, Southport, NC; Quantitative Biosciences (qbisci), Solana Beach, CA; Caltech, Pasadena, CA; Guardion Inc., Boston, MA; H3D Inc., Ann Arbor, MI; Mason Livesay Scientific, LLC, DBA IB3 Global Solutions, Knoxville, TN; ARServices Limited, Alexandria, VA; The Charles Stark Draper Laboratory, Cambridge, MA; LocoLabs, Santa Clara, CA; XIA, LLC, Hayward, CA; The Cameron Group, Inc., Fremont, CA; Spectral Labs, San Diego, CA; WWT Asynchrony Labs, St. Louis, MO; NuMat Technologies, Inc., Skokie, IL; Akita Innovations LLC, Billerica, MA; Hamilton Associates, Inc., dba Air Techniques International (ATI), Cambridge, MA; Silver Lake Research Corporation, Azusa, CA; Armtec Countermeasures, Coachella, CA; Design West Technologies, Inc., Tustin, CA; Symetrica Inc., Maynard, MA; Washington State University, Pullman, WA; Gate Scientific Inc., Mipitas, CA; Innovative Management Concepts VA (IMC VA), Dulles, VA; Materials Modification Inc. (Matmod), Fairfax, VA; International AIDS Vaccine Inc. (IAVI), New York, NY; Polysciences, Inc., Warrington, PA; DAGER Technology LLC, Sterling, VA; Owlstone Inc., Norwalk, CT; Hung Technology Solutions, LLC, Baltimore, MD; Advanced Technology Systems Company of Virginia (ATSC), McLean, VA; Aveshka, Inc., Vienna, VA; Dynasafe US LLC, Talladega, AL; Maritime Planning Associates, Newport, RI; Global Systems Engineering, Alexandria, VA; BioMatrix Sciences Inc., Rancho Santa Fe, CA; SourceAmerica, Vienna, VA; Binergy Scientific, Inc., Atlanta, GA; Two Six Labs, LLC, Arlington, VA; Advanced Measurement Technology (Ametek-Ortec), Oak Ridge, TN; Chenega Support Services, LLC, San Antonio, TX; Visionary Products Inc. (VPI), Draper, UT; Toyon Research Corp., Goleta, CA; Mesmo, Inc., Waldorf, MD; DxDiscovery Inc., Reno, NV; Northern Arizona University, Flagstaff, AZ; Decon7 Systems, LLC, Scottsdale, AZ; Northrop Grumman Systems, Huntsville, AL; CTP, Inc. (Commonwealth Trading Partners), Alexandria, VA; Amaratek, San Diego, CA; SRC, Inc., North Syracuse, NY; SENTEL Corporation, a wholly owned subsidiary of Vectrus Systems Corporation, Alexandria, VA; Tex-Shield, Inc., Bethesda, MD; Zeteo Tech, Inc., Sykesville, MD; Eniwetok Group, LLC, Richardson, TX; Lynntech, Inc., College Station, TX; The Pennsylvania State University, Applied Research Laboratory, University Park, PA; Gryphon Scientific, LLC, Takoma Park, MD; Continuum Dynamics, Inc., Ewing, NJ; EV Products, Saxonburg, PA; ADS, Inc., Virginia Beach, VA; CritiTech Particle Engineering Solutions, LLC, Lawrence, KS; Star Cases, LLC dba Zero Manufacturing, North Salt Lake, UT; Science Applications International Corp. (SAIC), Reston, VA; Physical Sciences Inc. (PSI), Andover, MA; INFICON, Inc., East Syracuse, NY; Ginkgo Bioworks, Inc., Boston, MA; Phoenix Operations Group, Woodbine, MD; Biomeme Inc., Philadelphia, PA; Digital Infuzion, Inc., Gaithersburg, MD; TDA Research, Inc., Wheat Ridge, CO; Research International, Monroe, WA; Camber Corporation, an HII Company, Huntsville, AL; Aeris, LLC, Louisville, CO; MRI Global, Kansas City, MO; and W. L. Gore and Associates, Elkton, MD, have been added as parties to this venture.

No other changes have been made in either the membership or planned activity of the group research project. Membership in this group research project remains open, and CWMD intends to file additional written notifications disclosing all changes in membership.

On January 31, 2018, CWMD filed its original notification pursuant to Section 6(a) of the Act. The Department of Justice published a notice in the Federal Register pursuant to Section 6(b) of the Act on March 12, 2018 (83 FR 10750).

Patricia A. Brink,
Director of Civil Enforcement, Antitrust Division.

[FR Doc. 2018-11507 Filed 5-29-18; 8:45 am]

BILLING CODE 4410-11-P